DEPARTMENT OF HOMELAND SECURITY

Coast Guard

33 CFR Part 165

[Docket No. COTP St. Petersburg 07-226]

RIN 1625-AA87

Security Zone; Manbirtee Key, Port of Manatee, FL

AGENCY: Coast Guard, DHS.

ACTION: Notice of proposed rulemaking and public meeting.

SUMMARY: The Coast Guard proposes to establish a new security zone in the Manbirtee Key area of Port of Manatee, Florida. The purpose of this security zone is to ensure the security of vessels, facilities, and the surrounding area. Entry into the security zone would be prohibited without permission of the Captain of the Port.

DATES: Comments and related material must reach the Coast Guard on or before December 6, 2007. A public meeting will be held starting at 10 a.m. on November 13, 2007.

ADDRESSES: You may mail comments and related material to Coast Guard Sector St. Petersburg, Prevention Department, 155 Columbia Drive, Tampa, FL. 33606-3598. Coast Guard Sector St. Petersburg, Prevention Department maintains the public docket for this rule making. Comments and material received from the public, as well as documents indicated in this preamble as being available in the docket, will become part of this docket and will be available for inspection or copying at Coast Guard Sector St. Petersburg, Prevention Department, 155 Columbia Drive, Tampa, FL. 33606-3598 between 7:30 a.m. and 3:30 p.m., Monday through Friday, except Federal holidays. The location of the public meeting is Port Manatee, 300 Tampa Bay Way, Palmetto, FL 34221.

FOR FURTHER INFORMATION CONTACT: Lieutenant Jessica Crandell at the Waterways Management Division, Sector St. Petersburg, FL (813) 228-2191 Ext 8146.

SUPPLEMENTARY INFORMATION:

Request for Comments

We encourage you to participate in this rulemaking by submitting comments and related material. If you do so, please include the docket number for this rulemaking (COTP 07-226), indicate the specific section of this document to which each comment applies, and give the reason for each comment. We recommend that you include your name and a mailing address, an e-mail address, or a phone number in the body of your document so that we can contact you if we have questions regarding your submission. For example, we may ask you to resubmit your comment if we are not able to read your original submission. Please submit all comments and related material in an unbound format, no larger than 81/2 by 11 inches, suitable for copying. If you would like to know they reached us, please enclose a stamped, self-addressed postcard or envelope. We will consider all comments and material received during the comment period. We may change this proposed rule in view of them.

Public Meeting

We will hold a public meeting to discuss any items of concern related to the proposed changes to the security zone outlined in this document. The date and time of this meeting is 10 a.m., November 13, 2007. The location of the meeting is Port Manatee, 300 Tampa Bay Way, Palmetto, FL 34221.

Background and Purpose

The Maritime Transportation Security Act authorized the establishment of Area Maritime Security Committees (AMSC) that “advise, consult with, report to, and make recommendations” on matters relating to maritime security in an AMSC's port area. See 46 U.S.C. 70112(a)(2) and 33 CFR 103.205. One topic the Tampa AMSC discussed is the existing security zones that were established immediately following the terrorist attacks of September 11, 2001. See 68 FR 47852, August 12, 2003, and 68 FR 52340, September 3, 2003.

In July 2007, using the newly-developed Maritime Security Risk Analysis tool, the Tampa AMSC working group evaluated risk to the maritime transportation system (MTS) within Tampa Bay, and assessed various risk mitigation options. The results of the risk assessment indicated the need to establish a new security zone in the vicinity of Manbirtee Key, FL. To assist in assessment of risk mitigation options in the vicinity of Manbirtee Key, FL, a focus group session was held with Coast Guard licensed mariners on July 25, 2007.

Discussion of Proposed Rule

This proposed rule would create a security zone in the following area: All waters of Tampa Bay, from surface to bottom, surrounding Manbirtee Key, Tampa Bay, FL extending 500 yards from the island's shoreline, in all directions, with the exception of the Port Manatee Channel.

Entry into or remaining on or within this zone would be prohibited unless authorized by the Captain of the Port Sector St. Petersburg or his designated representative. Persons desiring to transit the area of the security zone may contact the Captain of the Port St. Petersburg or his designee on VHF channel 16 to seek permission to transit the area. If permission is granted, all persons and vessels must comply with the instructions of the Captain of the Port or his designated representative.

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary. This proposed rule may have some impact on the public, but these potential impacts will be minimized for the following reasons: There is ample room for vessels to navigate around the security zone, and there are several locations for recreational and commercial fishing vessels to fish throughout the Tampa Bay Region. Also, the Captain of the Port may, on a case-by-case basis allow persons or vessels to enter a security zone.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule will not have a significant economic impact on a substantial number of small entities because the zone is limited in size, leaving ample room for vessels to navigate around the zone. The zone will not significantly impact commuter and passenger vessel traffic patterns, and mariners will be notified of the zone via local notice to mariners and marine broadcasts. Also, the Captain of the Port may, on a case-by-case basis, allow persons or vessels to enter a security zone.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the office listed under FOR FURTHER INFORMATION CONTACT, for assistance in understanding this rule. The Coast Guard will not retaliate against small entities that question or complain about this rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD which guides the Coast Guard in complying with the National Environmental Policy Act of 1969 (NEPA) (42 U.S.C. 4321-4370f), and have made a preliminary determination that this action is not likely to have a significant effect on the human environment. A preliminary “Environmental Analysis Check List” supporting this preliminary determination is available in the docket where indicated under ADDRESSES. We seek any comments or information that may lead to the discovery of a significant environmental impact from this proposed rule.

List of Subjects in 33 CFR Part 165

Harbors, Marine safety, Navigation (water), Reporting and recordkeeping requirements, Security measures, Waterways.

Words of Issuance and Proposed Regulatory Text

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6 and 160.5; Pub. L. 107-295, 116 Stat. 2064; Department of Homeland Security Delegation No. 0170.1.

2. Add § 165.767 to read as follows:

§ 165.767 Security Zone; Manbirtee Key, Port of Manatee, Florida.

(a) Regulated area. The following area is a security zone: All waters of Tampa Bay, from surface to bottom, surrounding Manbirtee Key, Tampa Bay, FL, extending 500 yards from the island's shoreline, in all directions, with the exception of the Port Manatee Channel.

(b) Definitions. As used in this section, designated representative means Coast Guard Patrol Commanders including Coast Guard coxswains, petty officers and other officers operating Coast Guard vessels, and federal, state, and local officers designated by or assisting the Captain of the Port (COTP), in the enforcement of regulated navigation areas, safety zones, and security zones.

(c) Regulation. (1) Entry into or remaining on or within the security zone described in paragraph (a) of this section is prohibited unless authorized by the Captain of the Port St. Petersburg or his designated representative.

(2) Persons desiring to transit the security zone may contact the Captain of the Port St. Petersburg or his designated representative on VHF channel 16 to seek permission to transit the area. If permission is granted, all persons and vessels must comply with the instructions of the Captain of the Port or the designated representative.

(3) Enforcement. Under § 165.33, no person may cause or authorize the operation of a vessel in the security zone contrary to the provisions of this section.

Dated: October 29, 2007.
J.A. Servidio,
Captain, U.S. Coast Guard, Captain of the Port St. Petersburg.

1

[FR Doc. E7-21761 Filed 11-5-07; 8:45 am]

BILLING CODE 4910-15-P